DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2013 National Census Contact Test.

OMB Control Number: None.

Form Number(s): None

Type of Request: New collection.

Burden Hours: 4,667.

Number of Respondents: 40,000.

Average Hours per Response: 7 minutes.

Needs and Uses: The U.S. Census Bureau is committed to using alternative approaches for contacting potential respondents, such as cell phones, landlines, text messages and emails in an effort to reduce costs by increasing self-response. However, developing and implementing successful and secure contact and response strategies during the 2020 Census requires research throughout the next decade. The Census Bureau must conduct a series of research projects and tests to fulfill its commitment to provide the public with an option to complete their 2020 Decennial Census questionnaire using these alternate contact strategies through a self-response test.

The 2013 National Census Contact Test (NCCT), formerly named the 2013 Alternative Contact Strategy Test, supports this alternate contact research. The 2013 NCCT will be conducted over the telephone, using a Computer Assisted Telephone Instrument (CATI) with approximately 40,000 households between January 7, 2013, and February 1, 2013. These interviews will enable Census staff to assess the quality of the data from vendor files that are under consideration for use in the construction of an Alternate Contact Frame. The 2013 NCCT questionnaire will ask respondents for basic demographic information collected in a Census. Demographic information includes questions such as household roster, age, race, Hispanic origin, relationship, and sex. The questionnaire also takes the approach of requesting email addresses and telephone numbers from the respondents. Afterward, the respondent-provided address, phone numbers, and email addresses will be matched to the vendor data being evaluated as well as to the Master Address File (MAF). In addition, the NCCT provides an opportunity for the Census Bureau to test potential enhancements to its automated processing of responses lacking a pre-assigned Census Identification number. “Non-ID Processing,” as it is known within the Census Bureau, compares respondent addresses to the MAF, which is a national inventory of living quarters addresses compiled and maintained by the Census Bureau. In the case of a non-match, Non-ID processing includes the assignment of geographic codes to the respondent address, which enables a record to be tabulated to the correct geographic area (e.g. State, Congressional District, County, Census tract, etc.). Finally, the interview contains a question intended to gauge respondents' attitudes regarding the collection of Global Positioning System (GPS) coordinate data from a respondent's mobile device, such as cellular phone or tablet, made available through technology referred to as “location based services.”

The Census Bureau designed the 2013 National Census Contact Test to inform the 2020 Census testing and planning design. The intent is to research and validate the quality of the administrative records files, which contain alternate contact data to connect with individuals and households, such as email addresses and cell phone numbers, as well as evaluate enhancements to the Census Bureau's process for matching and geocoding Non-ID'd responses. Additionally, responses to the final interview question (regarding collection of respondent coordinate location) will be compiled and provide some indication of public attitude regarding the use of location-based services on mobile devices to derive a respondent's location.

The results from the 2013 NCCT will influence internal Census Bureau planning decisions that will guide the design of additional 2020 Decennial Census testing later this decade. By testing in 2013, we aim to establish a baseline approach for multi-mode testing. Testing enhancements to Non-ID processing early in the decade will inform early planning for the 2020 Census design, as well as the infrastructure required to support large-scale processing of electronic Non-ID response data submitted via the Internet or a Census-provided questionnaire application designed for mobile devices.

The Census Bureau plans to make the aggregated results of this study available to the public. Data from the research will be included in reports with clear statements about the limitations and that the data were produced for strategic and tactical decision-making and exploratory research and not for official estimates. Research results may be prepared for presentation at professional meetings or in publications in professional journals to promote discussion between the larger survey and statistical community, and to encourage further research and refinement.

Affected Public: Individuals or households.

Frequency: One time.

Respondent's Obligation: Mandatory.

Legal Authority: Title 13 United States Code, Sections 141 and 193.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW, Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: October 18, 2012.
Glenna Mickelson,
Management Analyst, Office of the Chief Information Officer.

[FR Doc. 2012-26125 Filed 10-23-12; 8:45 am]

BILLING CODE 3510-07-P